DEPARTMENT OF STATE

[Public Notice: 12497]

Nominations for Coordinating Lead Authors, Lead Authors, or Review Editors on the Special Report on Climate Change and Cities To Be Undertaken by the Intergovernmental Panel on Climate Change During the Seventh Assessment Report (AR7) Cycle

The United States Department of State, in cooperation with the United States Global Change Research Program, seeks nominations for U.S. scientists with requisite expertise to serve as Coordinating Lead Authors, Lead Authors, or Review Editors on the Special Report on Climate Change and Cities to be undertaken by the Intergovernmental Panel on Climate Change (IPCC) during the Seventh Assessment Report (AR7) cycle. The outline for the report was adopted at the 61th session of the IPCC Plenary held July 27-Aug. 2, 2024.

Nominations may be submitted at https://contribute.globalchange.gov/. This is an Open Call. All registered users can nominate U.S. citizens and permanent lawful residents to be considered by the IPCC Scientific Steering Committee (SSC). The call for nominations will close on Monday, September 16, 2024, and a nominations package transmitted on behalf of the U.S. IPCC Focal Point on September 20th. The SSC will complete its work and issue appointment memos in late December 2024.

The United Nations Environment Programme (UNEP) and the World Meteorological Organization (WMO) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation.

This notice will be published in the Federal Register.

Hagen D. Maroney,
Acting Director, Office of Global Change, Bureau of Oceans and International Environmental and Scientific Affairs, Department of State.

[FR Doc. 2024-18520 Filed 8-19-24; 8:45 am]

BILLING CODE 4710-09-P